POSTAL REGULATORY COMMISSION

[Docket No. CP2022-65; Order No. 6173]

Inbound Competitive Multi-Service Agreements With Foreign Postal Operators

AGENCY: Postal Regulatory Commission.

ACTION: Notice.

SUMMARY: The Commission is recognizing a recent filing by the Postal Service that it has entered into the Inbound Competitive Multi-Service Agreement with Foreign Postal Operators (FPOs). This notice informs the public of the filing, invites public comment, and takes other administrative steps.

DATES: Comments are due: May 23, 2022.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Initial Administrative Actions

III. Ordering Paragraphs

I. Introduction

On May 13, 2022, the Postal Service filed a notice with the Commission pursuant to 39 CFR 3035.105 and Order No. 546,¹ giving notice that it has entered into an Inbound Competitive Multi-Service Agreement with Foreign Postal Operators (FPOs). The Notice concerns the inbound portions of the competitive product agreement PRIME United States Postal Service Registered Service Agreement (PRIME-USPS Registered Agreement). Notice at 1. The Postal Service seeks to include the PRIME-USPS Registered Agreement within the Inbound Multi-Service Agreement with Foreign Postal Operators 1 (MC2010-34) product. Id. The PRIME-USPS Registered Agreement contains rates for registered services. Id. at 6.

¹ Notice of United States Postal Service of Filing Functionally Equivalent Inbound Competitive Multi-Service Agreement with Foreign Postal Operators, May 13, 2022 (Notice). Docket Nos. MC2010-34 and CP2010-95, Order Adding Inbound Competitive Multi-Service Agreements with Foreign Postal Operators 1 to the Competitive Product List and Approving Included Agreement, September 29, 2010 (Order No. 546).

The Postal Service asserts that the PRIME-USPS Registered Agreement “is functionally equivalent to the baseline agreement filed in Docket No. MC2010-34 because the terms of this agreement are similar in scope and purpose to the terms of the CP2010-95 Agreement.” Id. at 3. It also asserts that the PRIME-USPS Registered Agreement is similar to other agreements reviewed by the Commission in the past, including the PRIME-USPS Tracked Agreement in Docket No. CP2020-169.²

² Id. at 3-5. See Docket No. CP2020-169, Order Approving Additional Inbound Competitive Multi-Service Agreement with Foreign Postal Operators, June 25, 2020 (Order No. 5563).

Concurrent with the Notice, the Postal Service filed supporting financial documentation and the following documents:

• Attachment 1—an application for non-public treatment;

• Attachment 2—the PRIME-USPS Registered Agreement;

• Attachment 3—Governors' Decision No. 19-1; and

• Attachment 4—a certified statement required by 39 CFR 3035.105(c)(2).

Notice at 5.

The Postal Service intends for the PRIME-USPS Registered Agreement to become effective June 1, 2022, and continue indefinitely. Id. at 6. The Postal Service states that counterparties to this agreement are FPOs that exchange mail with the Postal Service and apply the Universal Postal Convention and Universal Postal Convention Regulations to those exchanges, unless otherwise agreed by contract. Id. The Postal Service provides that additional FPOs may become party to the agreement and states that it will update this docket should additional FPOs accede to the PRIME-USPS Registered Agreement. Id.

The Postal Service states that one of the goals of the PRIME-USPS Registered Agreement is to “enable and incentivize the parties to provide optimal services in the interest of their customers.” Id. Additionally, the Postal Service notes that the PRIME-USPS Registered Agreement does not affect any other PRIME agreements. Id.

The Postal Service asserts that the PRIME-USPS Registered Agreement is in compliance with 39 U.S.C. 3633 and is functionally equivalent to the inbound competitive portions of the baseline agreement, which was included in the Inbound Competitive Multi-Service Agreements with Foreign Postal Operators 1 product (MC2010-34). Id. at 10. For these reasons, the Postal Service contends that the PRIME-USPS Registered Agreement should be added to the Inbound Competitive Multi-Service Agreements with Foreign Postal Operators 1 (MC2010-34) product. Id.

II. Initial Administrative Actions

The Commission establishes Docket No. CP2022-65 for consideration of matters raised by the Notice. Interested persons may submit comments on whether the PRIME-USPS Registered Agreement is consistent with 39 U.S.C. 3633 and 39 CFR 3035.105 and whether it is functionally equivalent to the baseline agreement included in the Inbound Competitive Multi-Service Agreements with Foreign Postal Operators 1 product (MC2010-34). The public portions of the filing can be accessed via the Commission's website (http://www.prc.gov). Comments are due by May 23, 2022.

Pursuant to 39 U.S.C. 505, Kenneth R. Moeller is appointed to serve as an officer of the Commission (Public Representative) to represent the interests of the general public in this proceeding.

III. Ordering Paragraphs

It is ordered:

1. The Commission establishes Docket No. CP2022-65 for consideration of the matters raised by the Notice of United States Postal Service of Filing Functionally Equivalent Inbound Competitive Multi-Service Agreement with Foreign Postal Operators, filed May 13, 2022.

2. Pursuant to 39 U.S.C. 505, the Commission appoints Kenneth R. Moeller to serve as an officer of the Commission (Public Representative) to represent the interests of the general public in this proceeding.

3. Comments are due by May 23, 2022.

4. The Secretary shall arrange for publication of this order in the Federal Register.

By the Commission.
Erica A. Barker,
Secretary.

[FR Doc. 2022-10809 Filed 5-19-22; 8:45 am]

BILLING CODE 7710-FW-P